DEPARTMENT OF HEALTH AND HUMAN SERVICES

National Institutes of Health

Prospective Grant of Exclusive License: The Development of C-6 and C-8 Modified cAMP-Derivatives for the Treatment of Cancer

Correction

In notice document E6-6986 appearing on page 26979 in the issue of Tuesday, May 9, 2006, make the following correction:

In the second column, under the DATES heading, in the fourth and fifth lines, “June 10, 2006” should read “July 10, 2006 ”.

[FR Doc. Z6-6986 Filed 5-15-06; 8:45 am]

BILLING CODE 1505-01-D

DEPARTMENT OF TRANSPORTATION

Federal Aviation Administration

14 CFR Part 39

[Docket No. FAA-2005-21275; Directorate Identifier 2005-CE-28-AD; Amendment 39-14515; AD 2006-01-11 R1]

RIN 2120-AA64

Airworthiness Directives; The Cessna Aircraft Company Models 208 and 208B Airplanes

Correction

In rule document 06-2546 beginning on page 13538 in the issue of Thursday, March 16, 2006, make the following correction:

§39.13 [Corrected]

On page 13540, in §39.13, in the table, under the heading “Actions,” in entry (4), in the third line, “(600 SHP) or equipped” should read “(600 SHP) or equivalent, and equipped”.

[FR Doc. C6-2546 Filed 5-15-06; 8:45 am]

BILLING CODE 1505-01-D